Proclamation 10993 of November 21, 2025

Regulatory Relief for Certain Stationary Sources To Promote American Coke Oven Processing Security

By the President of the United States of America

A Proclamation

1. Steel plays a vital role in the United States economy and daily life, underpinning infrastructure, manufacturing, and various other industries. It is a fundamental material for construction, transportation, energy systems, military hardware, and countless other products, contributing significantly to the Nation's economic output and job creation. Currently, approximately 70 percent of all steel is made using metallurgical coke, a high-quality fuel and reductant used in blast furnaces to reduce iron ore to pig iron. A strong coke industry is therefore vital to building and maintaining critical infrastructure and military readiness.

2. On July 5, 2024, the Environmental Protection Agency published a final rule, pursuant to section 112 of the Clean Air Act, 42 U.S.C. 7412, titled National Emission Standards for Hazardous Air Pollutants for Coke Ovens: Pushing, Quenching, and Battery Stacks, and Coke Oven Batteries; Residual Risk and Technology Review, and Periodic Technology Review, 89 FR 55684 (Coke Oven Rule). The Coke Oven Rule imposes new emissions-control requirements on coke oven facilities.

3. The Coke Oven Rule places severe burdens on the coke production industry and, through its indirect effects, on the viability of our Nation's critical infrastructure, defense, and national security. Specifically, the Coke Oven Rule requires compliance with standards premised on the application of emissions-control technologies that do not yet exist in a commercially demonstrated or cost-effective form. Many of the testing and monitoring requirements outlined in the Coke Oven Rule rely on technologies that are not practically available, not demonstrated at the necessary scale, or cannot be implemented safely or consistently under real-world conditions. Due to the Coke Oven Rule's onerous implementation and compliance schedule for these standards, many coke production facilities are in the impossible position of designing and engineering novel systems with unproven technology within a short time frame. The current compliance timeline of the Coke Oven Rule as set forth at 89 FR 55690 therefore raises the unacceptable risk of threatening facility closures, production halts, and lasting harm to the domestic coke production industry. This in turn would undermine our national security, as these effects would substantially impact local and national economies and would undermine the coke and steel sectors' vital role in producing the iron and steel needed to support critical infrastructure and defense.

4. NOW, THEREFORE, I, DONALD J. TRUMP, President of the United States of America, by the authority vested in me by the Constitution and the laws of the United States, including section 112(i)(4) of the Clean Air Act, 42 U.S.C. 7412(i)(4), do hereby proclaim that certain stationary sources subject to the Coke Oven Rule, as identified in Annex I of this proclamation, are exempt from compliance with certain requirements of the Coke Oven Rule for a period of 2 years beyond the Coke Oven Rule's relevant compliance dates (Exemption). This Exemption applies to all compliance deadlines established under the Coke Oven Rule applicable to the stationary sources listed in Annex I, with each such deadline extended by 2 years from the date originally required for such deadline. The effect of this Exemption is that, during each such 2-year period and with respect to the particular requirements identified in Annex I, these stationary sources will be subject to the emissions and compliance obligations that they are currently subject to under the applicable standard as that standard existed prior to the Coke Oven Rule. In support of this Exemption, I hereby make the following determinations:

a. The technology to implement the Coke Oven Rule is not available. Such technology does not exist in a commercially viable form sufficient to allow implementation of and compliance with the Coke Oven Rule by the compliance dates in the Coke Oven Rule.

b. It is in the national security interests of the United States to issue this Exemption for the reasons stated in paragraphs 1 and 3 of this proclamation.

IN WITNESS WHEREOF, I have hereunto set my hand this twenty-first day of November, in the year of our Lord two thousand twenty-five, and of the Independence of the United States of America the two hundred and fiftieth.

Billing code 3395-F4-P

[FR Doc. 2025-21418

Filed 11-25-25; 11:15 am]

Billing code 3395-F4-C